DEPARTMENT OF THE INTERIOR

Bureau of Safety and Environmental Enforcement

[13XE1700DX EEEE600000 EX1SF0000.DSA000]

Final Safety Culture Policy Statement

AGENCY: Bureau of Safety and Environmental Enforcement (BSEE), Interior.

ACTION: Notice.

SUMMARY: The Bureau of Safety and Environmental Enforcement (BSEE) issues this Final Statement of Policy to announce its expectation that individuals and organizations performing or overseeing activities regulated by BSEE establish and maintain a positive safety culture commensurate with the significance of their activities and the nature and complexity of their organizations and functions. The BSEE defines safety culture as the core values and behaviors of all members of an organization that reflect a commitment to conducting business in a safe and environmentally responsible manner. Further, it is important for all lessees, the owners or holders of operating rights, designated operators or agents of the lessee(s), pipeline right-of-way holders, State lessees granted a right-of-use and easement, and contractors to foster in personnel an appreciation for the importance of safety and environmental stewardship, emphasizing the need for their integration into performance objectives to achieve optimal protection and production.

FOR FURTHER INFORMATION CONTACT: Mr. Keith Petka, Safety and Environmental Management Systems Branch at (703) 787-1736, or by email at SEMS@bsee.gov.

SUPPLEMENTARY INFORMATION:

I. Background

On December 20, 2012, BSEE published a Notice in the Federal Register requesting comments on its Draft Statement of Policy announcing the expectation that individuals and organizations performing or overseeing activities regulated by BSEE establish and maintain a positive safety culture commensurate with the significance of their activities and the nature and complexity of their organizations and functions [77 FR 75443]. The comment period for this notice closed on March 20, 2013.

II. Summary of Comments on Draft Safety Culture Policy Statement

In response to the Federal Register notice, BSEE received 32 sets of comments from oil and gas companies (operators and contractors), industry associations, environmental organizations, and individuals. In the following section, we address the general comments by topic and discuss any changes made to the Policy Statement based on these comments. Comments that are not related to the notice or that are outside the scope of the policy statement are not addressed. All of the comments BSEE received are posted on www.regulations.gov, under docket number BSEE-2012-0017.

Comments by Topic

Support for BSEE's Issuance of Draft Safety Culture Policy Statement

A majority of commenters approved of BSEE's publication of the draft safety culture policy statement and identified it as an important starting point to initiate substantial discussions focused on improving the safety culture on the Outer Continental Shelf (OCS).

Nine Safety Culture Characteristics

The majority of commenters expressed agreement with the nine characteristics of safety culture that BSEE listed in the policy statement. Some commenters recommended modifications to the safety culture characteristics, such as the need for equipment control and integrity. In response to these comments, BSEE has altered the title of characteristic two from “Problem Identification and Resolution” to “Hazard Identification and Risk Management” and acknowledged equipment control in characteristic four. The BSEE feels that these changes better align with the common vocabulary used on the OCS for identifying potential safety issues as well as concentrating on the inherent risk in oil and gas activities. A positive safety culture would focus on continuously appraising hazards during the various exploration and production activities while adequately directing resources to the highest risks in order to best enhance safety.

Other commenters suggested adding new characteristics such as implementation, measurement and evaluation, and reward and recognition. The BSEE believes these are valuable ideas, but are too specific for inclusion in this policy statement. It is not BSEE's intention to mandate safety culture requirements. The ultimate goal for releasing this policy statement is to outline the critical traits that are present in a positive safety culture while initiating a constructive dialogue on how regulators, industries, and the public can collaborate on improving the overall safety on the OCS. However, we will consider utilizing these concepts as we plan future strategies outside of this policy statement.

Safety Versus Production

Many commenters noted that the policy statement appears to subordinate safety to production. Most of the commenters who commented on this issue pointed out that safety and production are often viewed as being in competition with each other. All of those who commented on this issue emphasized the need to clarify that safety should not be secondary to production.

The BSEE agrees with these comments and has altered the policy statement to read, “Each and every person involved in the wide range of activities associated with the offshore oil and gas program should emphasize the need to integrate safety and environmental stewardship into personal, company, and government performance objectives.”

Prescription of Safety Culture

Many commenters requested that BSEE refrain from mandating the adoption of a safety culture and that the policy statement not be too prescriptive. The commenters cited the need for flexibility in the adoption of safety culture and expressed the concern that the very act of mandating or prescribing safety culture activities would counteract the cultural assimilation that the safety culture statement intends to advance. It is not BSEE's intention to mandate safety culture requirements. The BSEE believes this would be counterproductive to building a positive safety culture; therefore, we are not prescribing a safety culture policy.

Differences Between Occupational and Process Safety

Many commenters stated that the policy statement should acknowledge a difference between occupational and process safety. Some commenters noted that the measures taken to advance occupational and process safety each are different: Occupational safety focuses primarily on behaviors while process safety focuses on management framework and better involves organization leaders. One commenter stated that occupational safety efforts concentrate on individual worker actions while process safety efforts concentrate on preventing high consequence, low likelihood events through engineering design.

A number of commenters expressed concern that the broad direction to adopt a safety culture is often translated into pressure on workers to avoid injuries. According to the commenters, this would occur without a concomitant requirement for a safety culture commitment throughout all levels of the organization.

The BSEE agrees with the comments that there is a difference between process safety and occupational safety. In an effort to involve all types of safety and all organization personnel, the definition of safety culture and several parts of the statement have been edited to better encompass all roles in an organization, and characteristic three has therefore been edited to read, “All individuals take personal responsibility for process and personal safety as well as environmental stewardship.”

Lack of Environmental Awareness

Several commenters stated that the policy statement does not adequately present the need for OCS organizations to focus on both safety and environmental issues. One commenter described the link between environmental safety and process safety that is vital to the OCS safety culture. Another commenter indicated that the statement “must clearly and consistently emphasize the importance of environmental health and safety in addition to human safety.”

The BSEE agrees that environmental protection plays a significant role in the activities on the OCS and we have edited the policy statement to reflect this importance.

Learn From Others

A number of commenters stated that other organizations and Federal agencies have already led safety culture transformations and encouraged BSEE to study their experiences. The BSEE appreciates this suggestion and is currently working to develop information sessions and workshops with various organizations that have had extensive experience with safety culture in comparable industries (e.g., Federal Aviation Administration, Nuclear Regulatory Commission, Petroleum Safety Authority Norway, etc.).

Stop Work Authority

Many commenters encouraged the use of the stop work authority. They emphasized that stop work authority could be used as a tool for workers to use in preventing accidents and as a safety cultural assimilation method. Several of those commenters who advocated special mention of stop work authority within the policy statement noted that while it deserves emphasis, it also needs to be carefully described in order to prevent misuse. According to the commenters, if the stop work authority were improperly applied or guided, it could exacerbate already deteriorating conditions.

On April 5, 2013, the final rule “Revisions to Safety and Environmental Management Systems” was published in the Federal Register [78 FR 20423]. This rule mandates that all operators implement stop work authority on all OCS activities regulated by BSEE. Therefore, BSEE is not making any changes to the policy statement with regard to stop work authority.

Further Involvement

Many commenters noted that BSEE should continue the dialogue on the topic of a safety culture policy statement. The majority of these comments contained recommendations that BSEE provide further details about safety culture in a future guidance document. Other commenters stated that BSEE should engage in an ongoing dialogue with stakeholders to discuss safety culture so that continued progress could be made.

Through public comments and industry input, BSEE has identified several tools that can effectively encourage a positive safety culture on the OCS. These include:

1. Forums and workshops with industry and other agencies to discuss safety culture initiatives;

2. Establishing a research program that can identify safety areas in need of improvement; or

3. Writing guidance documents that describe best practices and case studies for safety culture advancement.

The BSEE is currently exploring these options and will look towards further collaboration with industry and the public.

III. Statement of Policy

The BSEE defines safety culture as the core values and behaviors of all members of an organization that reflect a commitment to conduct business in a manner that protects people and the environment.

It is necessary for everyone participating in the exploration, development, and production of offshore oil and gas—from a contract service provider, to the leaseholder, to the government regulator—to realize the importance of a culture that promotes safety and environmental stewardship to a vigorous and respected offshore energy industry. Each and every person involved in the wide range of activities associated with the offshore oil and gas program should emphasize the need to integrate safety and environmental stewardship into personal, company, and government performance objectives. Continued improvement in safety and environmental protection will demonstrate to the American public that access to the valuable offshore energy resources can be accomplished while respecting the environment and protecting the offshore workers.

Experience has shown that certain personal and organizational characteristics are present in a culture that promotes safety and environmental responsibility. A characteristic, in this case, is a pattern of thinking, feeling, and behaving that emphasizes safety, particularly in situations that may have conflicting goals (e.g., production, schedule, and the cost of the effort versus safety and environmental protection).

The following are some of the characteristics that typify a robust safety culture:

1. Leadership Commitment to Safety Values and Actions. Leaders demonstrate a commitment to safety and environmental stewardship in their decisions and behaviors;

2. Hazard Identification and Risk Management. Issues potentially impacting safety and environmental stewardship are promptly identified, fully evaluated, and promptly addressed or corrected commensurate with their significance;

3. Personal Accountability. All individuals take personal responsibility for process and personal safety, as well as environmental stewardship;

4. Work Processes. The process of planning and controlling work activities is implemented so that safety and environmental stewardship are maintained while ensuring the correct equipment for the correct work;

5. Continuous Improvement. Opportunities to learn about ways to ensure safety and environmental stewardship are sought out and implemented;

6. Environment for Raising Concerns. A work environment is maintained where personnel feel free to raise safety and environmental concerns without fear of retaliation, intimidation, harassment, or discrimination;

7. Effective Safety and Environmental Communication. Communications maintain a focus on safety and environmental stewardship;

8. Respectful Work Environment. Trust and respect permeate the Organization with a focus on teamwork and collaboration; and

9. Inquiring Attitude. Individuals avoid complacency and continuously consider and review existing conditions and activities in order to identify discrepancies that might result in error or inappropriate action.

Although there are additional traits that amplify or extend these basic characteristics, these nine characteristics are foundational to the development of an effective and functioning safety culture that recognizes the need to protect people and the environment first and foremost.

Dated: May 2, 2013.
James A. Watson,
Director, Bureau of Safety and Environmental Enforcement.

[FR Doc. 2013-11117 Filed 5-9-13; 8:45 am]

BILLING CODE 4310-VH-P